DEPARTMENT OF THE INTERIOR

National Park Service

[NPS-WASO-NAGPRA-NPS0033207; PPWOCRADN0-PCU00RP14.R50000]

Notice of Inventory Completion: State University at Buffalo, Department of Anthropology, Buffalo, NY

AGENCY: National Park Service, Interior.

ACTION: Notice.

SUMMARY: The State University at Buffalo, Department of Anthropology has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the State University at Buffalo, Department of Anthropology. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the State University at Buffalo, Department of Anthropology at the address in this notice by February 9, 2022.

FOR FURTHER INFORMATION CONTACT: Douglas J. Perrelli, Ph.D., RPA, State University at Buffalo Department of Anthropology, 380 Academic Center, Ellicott Complex, Buffalo, NY 14261-0026, telephone (716) 645-2297, email perrelli@buffalo.edu.

SUPPLEMENTARY INFORMATION: Notice is here given in accordance with the Native American Graves Protection and Repatriation Act (NAGPRA), 25 U.S.C. 3003, of the completion of an inventory of human remains and associated funerary objects under the control of the State University at Buffalo, Department of Anthropology, Buffalo, NY. The human remains and associated funerary objects were removed from the Village of Youngstown, Niagara County, NY.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the University at Buffalo, Department of Anthropology professional staff in consultation with representatives of the Seneca Nation of Indians [previously listed as Seneca Nation of New York].

History and Description of the Remains

From February through October of 1997, human remains representing, at minimum, 13 individuals were removed from burials located at the intersection of Jackson Street and Lower River Road/Main Street in Youngstown, Niagara County, NY. Following excavation, the human remains were accessioned into the Marian E. White Anthropology Museum at the State University at Buffalo, Department of Anthropology. The condition of the human remains varies as a result of their having been uncovered by heavy machinery. No known individuals were identified. The 100 associated funerary objects are 85 nail fragments, 10 chert flakes, one bullet, one shell button, two brass pins, and one glass fragment.

Determinations Made by the State University at Buffalo, Department of Anthropology

Officials of the State University at Buffalo, Department of Anthropology have determined that:

• Pursuant to 25 U.S.C. 3001(9), the human remains described in this notice are Native American based on the location and condition of the burials and the nature of the skeletal remains and dentition.

• Pursuant to 25 U.S.C. 3001(9), the human remains described in this notice represent the physical remains of 13 individuals of Native American ancestry.

• Pursuant to 25 U.S.C. 3001(3)(A), the 100 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, or Executive Orders, indicate that the land from which the Native American human remains and associated funerary objects were removed is the aboriginal land of the Seneca Nation of Indians [previously listed as Seneca Nation of New York].

• Pursuant to 43 CFR 10.11(c)(1), the disposition of the human remains and associated funerary objects may be to the Seneca Nation of Indians [previously listed as Seneca Nation of New York].

Additional Requestors and Disposition

Representatives of any Indian Tribe or Native Hawaiian organization not identified in this notice that wish to request transfer of control of these human remains and associated funerary objects should submit a written request with information in support of the request to Douglas J. Perrelli, Ph.D., RPA, University at Buffalo Department of Anthropology, 380 Academic Center, Ellicott Complex, Buffalo NY 14261-0026, telephone (716) 645-2297, email perrelli@buffalo.edu, by February 9, 2022. After that date, if no additional requestors have come forward, transfer of control of the human remains and associated funerary objects to the Seneca Nation of Indians [previously listed as Seneca Nation of New York] may proceed.

The State University at Buffalo, Department of Anthropology is responsible for notifying the Seneca Nation of Indians [previously listed as Seneca Nation of New York] that this notice has been published.

Dated: January 3, 2022.
Melanie O'Brien,
Manager, National NAGPRA Program.

[FR Doc. 2022-00229 Filed 1-7-22; 8:45 am]

BILLING CODE 4312-52-P